DEPARTMENT OF ENERGY

Federal Energy Regulatory Commission

Combined Notice of Filings #1

Take notice that the Commission received the following electric rate filings:

Docket Numbers: ER10-1801-004; ER10-1805-005; ER10-2370-003.

Applicants: The Connecticut Light and Power Company, Public Service Company of New Hampshire, NSTAR Electric Company.

Description: Supplement to December 23, 2019 Updated Market Power Analysis for Northeast Region of the Eversource Companies, et al.

Filed Date: 5/28/20.

Accession Number: 20200528-5119.

Comments Due: 5 p.m. ET 6/18/20.

Docket Numbers: ER12-1933-011.

Applicants: Interstate Power and Light Company.

Description: Amendment to February 10, 2020 Notification of Change in Status of Interstate Power and Light Company.

Filed Date: 5/27/20.

Accession Number: 20200527-5135.

Comments Due: 5 p.m. ET 6/17/20.

Docket Numbers: ER20-391-003.

Applicants: J. Aron & Company LLC.

Description: Notice of Non-Material Change in Status of J. Aron & Company LLC.

Filed Date: 5/28/20.

Accession Number: 20200528-5247.

Comments Due: 5 p.m. ET 6/18/20.

Docket Numbers: ER20-547-002.

Applicants: Goldman Sachs Renewable Power Marketing.

Description: Compliance filing: Compliance Filing to be effective 1/2/2020.

Filed Date: 5/28/20.

Accession Number: 20200528-5079.

Comments Due: 5 p.m. ET 6/18/20.

Docket Numbers: ER20-547-003; ER12-1911-004; ER12-1912-004; ER12-1913-004; ER12-1915-004; ER12-1916-004; ER12-1917-004; ER14-41-004; ER14-42-004; ER16-498-003; ER16-499-003; ER16-500-003; ER19-2463-002.

Applicants: Goldman Sachs Renewable Power Marketing LLC, RE McKenzie 1 LLC, RE McKenzie 2 LLC, RE McKenzie 3 LLC, RE McKenzie 4 LLC, RE McKenzie 5 LLC, RE McKenzie 6 LLC, RE Rosamond One LLC, RE Rosamond Two LLC, RE Mustang LLC, RE Mustang 3 LLC, RE Mustang 4 LLC, Utah Red Hills Renewable Park, LLC.

Description: Notice of Non-Material Change in Status of Goldman Sachs Renewable Power Marketing LLC, et al.

Filed Date: 5/28/20.

Accession Number: 20200528-5152.

Comments Due: 5 p.m. ET 6/18/20.

Docket Numbers: ER20-752-001.

Applicants: Versant Power.

Description: Compliance filing: Establish Effective Date for Interconnection Agreement—Houlton Water Company to be effective 5/15/2020.

Filed Date: 5/28/20.

Accession Number: 20200528-5262.

Comments Due: 5 p.m. ET 6/18/20.

Docket Numbers: ER20-1905-000.

Applicants: Southwest Power Pool, Inc.

Description: § 205(d) Rate Filing: 3651 Arkansas Electric Cooperative Corp. NITSA NOA to be effective 7/1/2020.

Filed Date: 5/28/20.

Accession Number: 20200528-5059.

Comments Due: 5 p.m. ET 6/18/20.

Docket Numbers: ER20-1906-000.

Applicants: Story County Wind, LLC.

Description: Baseline eTariff Filing: Reactive Power Compensation Filing to be effective 7/27/2020.

Filed Date: 5/28/20.

Accession Number: 20200528-5074.

Comments Due: 5 p.m. ET 6/18/20.

Docket Numbers: ER20-1907-000.

Applicants: Minco Wind I, LLC.

Description: Baseline eTariff Filing: Minco Wind I, LLC Application for MBR Authority to be effective 7/27/2020.

Filed Date: 5/28/20.

Accession Number: 20200528-5081.

Comments Due: 5 p.m. ET 6/18/20.

Docket Numbers: ER20-1908-000.

Applicants: PJM Interconnection, L.L.C.

Description: § 205(d) Rate Filing: Assignment of ISA, SA No. 810, Queue No. A36 to be effective 12/13/2001.

Filed Date: 5/28/20.

Accession Number: 20200528-5123.

Comments Due: 5 p.m. ET 6/18/20.

Docket Numbers: ER20-1909-000.

Applicants: Southern California Edison Company.

Description: § 205(d) Rate Filing: GIA and DSA EF Oxnard LLC SA Nos. 1102-1103 to be effective 5/25/2020.

Filed Date: 5/28/20.

Accession Number: 20200528-5153.

Comments Due: 5 p.m. ET 6/18/20.

Docket Numbers: ER20-1910-000.

Applicants: Desert Harvest, LLC.

Description: Baseline eTariff Filing: Initial Market-Based Rate Petition of Desert Harvest to be effective 7/28/2020.

Filed Date: 5/28/20.

Accession Number: 20200528-5162.

Comments Due: 5 p.m. ET 6/18/20.

Docket Numbers: ER20-1911-000.

Applicants: Desert Harvest II LLC.

Description: Baseline eTariff Filing: Initial Market-Based Rate Petition of Desert Harvest II LLC to be effective 7/28/2020.

Filed Date: 5/28/20.

Accession Number: 20200528-5165.

Comments Due: 5 p.m. ET 6/18/20.

Docket Numbers: ER20-1912-000.

Applicants: Blooming Grove Wind Energy Center LLC.

Description: Baseline eTariff Filing: Application for Market-Based Rate Authorization to be effective 7/28/2020.

Filed Date: 5/28/20.

Accession Number: 20200528-5173.

Comments Due: 5 p.m. ET 6/18/20.

Docket Numbers: ER20-1913-000.

Applicants: PJM Interconnection, L.L.C.

Description: § 205(d) Rate Filing: Revision to Sch. 12-Appx A (MetEd), 30-Day Comment Period Requested to be effective 8/26/2020.

Filed Date: 5/28/20.

Accession Number: 20200528-5183.

Comments Due: 5 p.m. ET 6/18/20.

Docket Numbers: ER20-1914-000.

Applicants: Versant Power.

Description: Tariff Cancellation: Notice of Termination of Transmission Service Agreement—Houlton Water Company to be effective 5/15/2020.

Filed Date: 5/28/20.

Accession Number: 20200528-5272.

Comments Due: 5 p.m. ET 6/18/20.

Take notice that the Commission received the following electric reliability filings.

Docket Numbers: RD20-9-000.

Applicants: North American Electric Reliability Corporation.

Description: Application of the North American Electric Reliability Corporation for the approval of proposed Reliability Standard BAL-003-2.

Filed Date: 12/19/19.

Accession Number: 20191219-5339.

Comments Due: 5 p.m. ET 6/29/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 28, 2020.
Nathaniel J. Davis, Sr.,
Deputy Secretary.

[FR Doc. 2020-11948 Filed 6-2-20; 8:45 am]

BILLING CODE 6717-01-P